DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in Meters (MSL) Modified | Communities affected
Boone County, Indiana, and Incorporated Areas
Docket No.: FEMA-B-1148
Etter Ditch | Approximately 530 feet downstream of Wilson Road | +914 | Town of Whitestown, Unincorporated Areas of Boone County.
| Just upstream of Indianapolis Road | +928
Fishback Creek | Approximately 0.53 mile downstream of County Road 550 South | +897 | City of Lebanon, Town of Whitestown, Unincorporated Areas of Boone County.
| Approximately 0.61 mile upstream of County Road 400 East | +949
Green Ditch | At the confluence with Etter Ditch | +916 | Town of Whitestown.
| Just upstream of South Cozy Lane | +922
Mann Ditch | At the confluence with Prairie Creek | +932 | City of Lebanon, Unincorporated Areas of Boone County.
| Approximately 0.46 mile upstream of the confluence with Prairie Creek | +933
Prairie Creek | Approximately 1,320 feet downstream of 221st Street | +875 | City of Lebanon, Unincorporated Areas of Boone County.
| Approximately 0.94 mile upstream of Indianapolis Road | +945
White Lick Creek | Approximately 0.22 mile downstream of County Road 650 South | +929 | Town of Whitestown, Unincorporated Areas of Boone County.
| Approximately 0.53 mile upstream of State Road 267 | +947
* National Geodetic Vertical Datum. + North American Vertical Datum. # Depth in feet above ground. ‸ Mean Sea Level, rounded to the nearest 0.1 meter.
ADDRESSES
City of Lebanon
Maps are available for inspection at the Municipal Building, 401 South Meridian Street Lebanon, IN 46052.
Town of Whitestown
Maps are available for inspection at the Town Hall, 3 South Main Street Whitestown, IN 46075.
Unincorporated Areas of Boone County
Maps are available for inspection at the Boone County Area Plan Commission, 116 West Washington Street Lebanon, IN 46052.
Lake County, Indiana, and Incorporated Areas
Docket No.: FEMA-B-1076
Dyer Ditch | Just upstream of 213th Street | +619 | Town of Dyer, Town of Schererville, Unincorporated Areas of Lake County.
| Just upstream of 77th Avenue | +638
Hart Ditch | At the confluence with the Little Calumet River | +596 | Town of Dyer, Town of Munster.
| Approximately 1,650 feet upstream of Hart Street | +637
Lake Michigan | Entire shoreline within community | +585 | City of East Chicago, City of Gary, City of Hammond, City of Whiting
Main Beaver Dam Ditch | Just downstream of Broadway | +684 | Town of Merrillville.
| Approximately 1,000 feet upstream of Broadway | +684
| Approximately 1,600 feet downstream of 91st Avenue | +689
| Just downstream of 91st Avenue | +689
Main Beaver Dam Ditch | Approximately 730 feet west of Clark Road | +690 | Town of Schererville
Main Beaver Dam Ditch South Tributary | Approximately 425 feet downstream of U.S. Route 231 | +694 | Unincorporated Areas of Lake County.
| Just downstream of 113th Avenue | +695
McConnel Ditch | Approximately 1,280 feet downstream of Morse Street | +674 | Town of Lowell.
| Just downstream of Morse Street | +678
Niles Ditch | Just upstream of 101st Avenue | +676 | Town of Merrillville.
| Approximately 150 feet upstream of 101st Avenue | +676
Seberger Ditch | Just upstream of East Main Street | +620 | Town of Griffith, Town of Schererville.
| Approximately 200 feet upstream of Redar Drive | +633
Spring Street Ditch | Approximately 0.5 mile east of Kennedy Avenue | +622 | Town of Griffith.
| Just upstream of the railroad | +622
Turkey Creek | Approximately 500 feet upstream of I-65 | +614 | Town of Merrillville, Town of Schererville, Unincorporated Areas of Lake County.
| Approximately 150 feet upstream of 85th Street | +670
Unnamed Tributary (backwater effects from West Creek) | Just upstream of Conrail Railroad | +674 | Unincorporated Areas of Lake County.
| Just downstream of Louisville and Nashville Railroad | +674
* National Geodetic Vertical Datum. + North American Vertical Datum. # Depth in feet above ground. ‸ Mean Sea Level, rounded to the nearest 0.1 meter.
ADDRESSES
City of East Chicago
Maps are available for inspection at 4444 Railroad Avenue East Chicago, IN 46312.
City of Gary
Maps are available for inspection at 401 West Broadway, Gary, IN 46402.
City of Hammond
Maps are available for inspection at 5925 Calumet Avenue Hammond, IN 46322.
City of Whiting
Maps are available for inspection at 1443 119th Street Whiting, IN 46394.
Town of Dyer
Maps are available for inspection at 1 Town Square, Dyer, IN 46311.
Town of Griffith
Maps are available for inspection at 111 North Broad Street Griffith, IN 46319.
Town of Lowell
Maps are available for inspection at 501 East Main Street Lowell, IN 46356.
Town of Merrillville
Maps are available for inspection at 7820 Broadway, Merrillville, IN 46410.
Town of Munster
Maps are available for inspection at 1005 Ridge Road Munster, IN 46321.
Town of Schererville
Maps are available for inspection at 10 East Joliet Street Schererville, IN 46375.
Unincorporated Areas of Lake County
Maps are available for inspection at 2293 North Main Street Crown Point, IN 46307.
Holmes County, Mississippi, and Incorporated Areas
Docket No.: FEMA-B-1159
Yazoo River | Approximately 12 miles downstream of County Road 511 | +121 | Town of Cruger, Unincorporated Areas of Holmes County.
| Approximately 6.5 miles downstream of County Road 511 | +123
* National Geodetic Vertical Datum. + North American Vertical Datum. # Depth in feet above ground. ‸ Mean Sea Level, rounded to the nearest 0.1 meter.
ADDRESSES
Town of Cruger
Maps are available for inspection at the Town Hall, 225 Railroad Street Cruger, MS 38924.
Unincorporated Areas of Holmes County
Maps are available for inspection at the Holmes County Courthouse, 300 Yazoo Street Lexington, MS 39095.
Elk County, Pennsylvania (All Jurisdictions)
Docket No.: FEMA-B-1140
Alysworth Run | Approximately 1,192 feet upstream of West Main Street | +1397 | Township of Ridgway.
| Approximately 75 feet downstream of Grant Road | +1420
Clarion River | Approximately 935 feet upstream of the confluence with Alysworth Run | +1374 | Township of Ridgway.
| Approximately 1,193 feet downstream of Gillis Avenue | +1374
Clarion River | Approximately 1,200 feet downstream of the confluence with Mason Creek | +1384 | Township of Ridgway.
| Approximately 0.56 mile upstream of the confluence with Mason Creek | +1387
Elk Creek | Approximately 1.18 miles upstream of the confluence with Mohan Run | +1408 | Township of Ridgway.
| Approximately 0.44 mile downstream of U.S. Route 219 | +1414
Elk Creek | Approximately 1,867 feet downstream of the confluence with Elk Creek Tributary 1 | +1473 | Township of Ridgway.
| Approximately 1,885 feet upstream of the confluence with Daguscahonda Run | +1474
Little Toby Creek | Approximately 0.71 mile downstream of the bridge over Coal Hollow Road | +1674 | Township of Fox.
| Approximately 0.62 mile downstream of the bridge over Coal Hollow Road | +1692
* National Geodetic Vertical Datum. + North American Vertical Datum. # Depth in feet above ground. ‸ Mean Sea Level, rounded to the nearest 0.1 meter.
ADDRESSES
Township of Fox
Maps are available for inspection at the Fox Township Municipal Building, 116 Irishtown Road Kersey, PA 15846.
Township of Ridgway
Maps are available for inspection at the Township Municipal Building, 164 Ridgway Drive, Ridgway, PA 15853.
Franklin County, Pennsylvania (All Jurisdictions)
Docket No.: FEMA-B-1144
Back Creek | At the confluence with Conococheague Creek | +481 | Township of Antrim, Township of Peters.
| Approximately 180 feet upstream of the confluence with Conococheague Creek | +481
Conodoguinet Creek | Approximately 500 feet downstream of Burnt Mill Road | +544 | Township of Letterkenny, Township of Lurgan.
| Approximately 1.49 miles upstream of Tanyard Hill Road (State Route 433) | +603
Middle Spring Creek | Approximately 20 feet upstream of Hot Point Avenue (Avon Drive) | +630 | Township of Southampton.
| Approximately 80 feet upstream of Hot Point Avenue (Avon Drive) | +630
Tributary to Falling Spring Branch | At the confluence with Falling Spring Branch | +631 | Township of Guilford.
| At the upstream inlet of the I-81 culvert | +631
Unnamed Tributary to West Branch Antietam Creek | Approximately 1,900 feet downstream of the Access Road Bridge | +637 | Township of Washington.
| Approximately 100 feet downstream of the Access Road Bridge | +647
* National Geodetic Vertical Datum. + North American Vertical Datum. # Depth in feet above ground. ‸ Mean Sea Level, rounded to the nearest 0.1 meter.
ADDRESSES
Township of Antrim
Maps are available for inspection at the Antrim Township Municipal Building, 10655 Antrim Church Road Greencastle, PA 17225.
Township of Guilford
Maps are available for inspection at the Guilford Township Building, 115 Spring Valley Road Chambersburg, PA 17201.
Township of Letterkenny
Maps are available for inspection at the Letterkenny Township Building, 4924 Orrstown Road Orrstown, PA 17244.
Township of Lurgan
Maps are available for inspection at the Lurgan Township Building, 8650 McClays Mill Road Newburg, PA 17240.
Township of Peters
Maps are available for inspection at the Peters Township Building, 5342 Lemar Road Mercersburg, PA 17236.
Township of Southampton
Maps are available for inspection at the Township Building, 705 Municipal Drive, Southampton, PA 17257.
Township of Washington
Maps are available for inspection at the Washington Township Building, 13013 Welty Road Waynesboro, PA 17268.
Lawrence County, Pennsylvania (All Jurisdictions)
Docket No.: FEMA-B-1128
Beaver River | Approximately 0.49 mile downstream of the confluence with Wampum Run | +763 | Borough of New Beaver, Borough of Wampum.
| Approximately 1 mile downstream of the confluence with Jenkins Run | +767
Beaver River | Approximately 400 feet downstream of the confluence with the Shenango River | +776 | Township of Taylor.
| Approximately 80 feet downstream of the confluence with the Shenango River | +776
Big Run Tributary 5 | Approximately 0.45 mile downstream of Harlandsburg Road | +1157 | Township of Hickory.
| Approximately 1,362 feet upstream of the intersection of Harlandsburg Road and Cameron Road | +1159
Mahoning River | Approximately 0.69 mile downstream of the intersection of Washington Street and Winter Road | +785 | Township of Union.
| Approximately 0.68 mile downstream of the intersection of Washington Street and Winter Road | +785
Neshannock Creek | Approximately 1,500 feet downstream of the confluence with Lick Run | +849 | Township of Hickory.
| Approximately 1,230 feet upstream of the confluence with Lick Run | +859
Neshannock Creek | Approximately 0.45 mile upstream of the confluence with Neshannock Creek Tributary 5 | +924 | Township of Wilmington.
| Approximately 0.47 mile downstream of the intersection of Highland Avenue and Neshannock Falls Road | +925
Neshannock Creek Tributary 3 | Approximately 50 feet upstream of Lakewood-Neshannock Falls Road | +901 | Township of Hickory.
| Approximately 540 feet upstream of Lakewood-Neshannock Falls Road | +901
Shenango River | Approximately 800 feet downstream of the confluence with the Shenango River | +777 | Township of Taylor.
| Approximately 1,200 feet downstream of Mahoning Avenue | +787
Shenango River | Approximately 40 feet upstream of the confluence with Shenango River Tributary 2 | +804 | Township of Mahoning, Township of Pulaski, Township of Union.
| Approximately 0.70 mile upstream of the confluence with Shenango River Tributary 5 | +809
Slippery Rock Creek | Approximately 400 feet downstream of Portersville Road | +831 | Township of Perry.
| Approximately 1,460 feet upstream of Van Gorder Mill Road | +848
* National Geodetic Vertical Datum. + North American Vertical Datum. # Depth in feet above ground. ‸ Mean Sea Level, rounded to the nearest 0.1 meter.
ADDRESSES
Borough of New Beaver
Maps are available for inspection at the New Beaver Borough Office, 778 Wampum New Galilee Road New Galilee, PA 16141.
Borough of Wampum
Maps are available for inspection at the Borough Secretary's Office, 355 Main Street Wampum, PA 16157.
Township of Hickory
Maps are available for inspection at the Hickory Township Hall, 127 Eastbrook-Neshannock Falls Road New Castle, PA 16105.
Township of Mahoning
Maps are available for inspection at the Mahoning Township Municipal Building, 4538 West State Street Hillsville, PA 16132.
Township of Perry
Maps are available for inspection at the Perry Township Hall, 284 Reno Road Portersville, PA 16051.
Township of Pulaski
Maps are available for inspection at the Township Hall, 1172 State Route 208, Pulaski, PA 16117.
Township of Taylor
Maps are available for inspection at the Taylor Township Board of Supervisors Office, 218 Industrial Street West Pittsburg, PA 16160.
Township of Union
Maps are available for inspection at the Union Township Board of Supervisors Office, 1910 Wilson Drive, New Castle, PA 16101.
Township of Wilmington
Maps are available for inspection at the Wilmington Township Hall, 669 Wilson Mill Road New Castle, PA 16105.

(Catalog of Federal Domestic Assistance No. 97.022, “Flood Insurance.”)

Dated: November 18, 2011.
Sandra K. Knight,
Deputy Associate Administrator for Mitigation, Department of Homeland Security, Federal Emergency Management Agency.

[FR Doc. 2011-31276 Filed 12-5-11; 8:45 am]

BILLING CODE 9110-12-P